DEPARTMENT OF COMMERCE:

National Oceanic and Atmospheric Administration

[RTID 0648-XE735]

Gulf of Mexico Fishery Management Council; Public Meeting

AGENCY: National Marine Fisheries Service (NMFS), National Oceanic and Atmospheric Administration (NOAA), Commerce.

ACTION: Notice of public hybrid meeting.

SUMMARY: The Gulf of Mexico Fishery Management Council (Council) will hold a four-day meeting to consider actions affecting the Gulf of Mexico fisheries in the exclusive economic zone (EEZ).

DATES: The meeting will convene Monday, April 7 through Thursday, April 10, 2025. Daily schedule as follows: Monday, Tuesday & Thursday from 8:30 a.m. to 5 p.m., and Wednesday, April 9, from 8:30 a.m. to 5:30 p.m., CDT.

ADDRESSES: The meeting will take place at The Lodge at Gulf State Park, located at 21196 East Beach Boulevard, Gulf Shores, AL 36542. If you prefer to “listen in,” you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, April 7, 2025; 8:30 a.m.-5 p.m., CDT

The meeting will begin with the Coral Committee receiving a presentation and update on Florida Keys National Marine Sanctuary: Restoration Blueprint Final Management Plan, review Draft Memorandum of Agreement between the Gulf and South Atlantic Councils, National Marine Fisheries Service (NMFS), Florida Wildlife Commission (FWC), and Florida Keys National Marine Sanctuary.

The Data Collection Committee will review the Loss of Southeast Region Headboat Survey dockside sampling update and Advisory Panel (AP) comments and hold a discussion for Southeast For-hire Integrated Electronic Reporting (SEFHIER), receive a presentation on Cost Analysis for SEFHIER Economic Data Collection, receive meeting summary from the Ad Hoc Charter For-hire Data Collection AP meeting and review draft For-Hire Electronic Reporting Amendment.

The Gulf SEDAR Committee will receive the SEDAR Steering Committee Summary Report from February 2025, and discuss the Gulf of Mexico SEDAR Schedule.

The Shrimp Committee will discuss the Biological Review of the Texas Closure, review FINAL ACTION: Shrimp Framework Action: Modification of the Vessel Position Data Collection Program for the Gulf of Mexico Shrimp Fishery and Shrimp AP Recommendations. The Shrimp Committee will review 2023 Gulf Shrimp Fishery Effort, discuss potential expiration of Moratorium for Federal Gulf Shrimp Permits and any remaining items from the March 2025 Shrimp AP meeting.

At approximately 4:15 p.m. until 5 p.m., the Council will convene the Full Council in a Closed Session to review Preliminary Selection of Spiny Lobster Advisory Panel Members; and selection of 2024 Law Enforcement Officer or Team of the Year.

Tuesday, April 8, 2025; 8:30 a.m.-5 p.m., CDT

The Council will receive a Litigation Update. Following, the Reef Fish Committee will review Reef Fish and Individual Fishing Quota (IFQ) Landings update, review Draft: Reef Fish Amendment 58B: Modifications to Deep-water Grouper Management Measures and Final Report: Recreational Initiative Outcomes and Recommendations. Following lunch, the Reef Fish Committee will receive a summary from the February 2025 Gulf and South Atlantic Scientific and Statistical Committees (SSC) Report and Recommendations on SEDAR 79 Mutton Snapper Stock Assessment, SEDAR 96 Yellowtail Snapper Stock Assessment, and the recommendations from the Standing Gulf SSC on SEDAR 88 Red Grouper Stock Assessment, and summary from the Reef Fish AP discussions and recommendations. The committee will review Draft Framework: Other Shallow-water Grouper Catch Limits and receive a presentation on 20-Fathom Recreational Seasonal Closure for Shallow-water Grouper.

Immediately following the Reef Fish Committee there will be an on-site and virtual Public Comment Session on Recreational Initiative Outcomes.

Wednesday, April 9, 2025; 8:30 a.m.-5:30 p.m., CDT

The Reef Fish Committee will reconvene to review FINAL ACTION: Framework Action: Modifications to Lane Snapper Minimum Size Limits and receive a presentation on Greater Amberjack Flowchart to Identify Decision Points for Regional Management. The committee will them review Return 'Em Right Science including a Programmatic Overview, SSC Review and Recommendations, receive a Communications Update, and discuss the expiration of the Descend Act.

The Council will reconvene at approximately 1:30 p.m., CDT with a Call to Order, Announcements and Introductions, Adoption of Agenda and Approval of Minutes. The Council will receive a presentation on Deep Water Horizon (DWH) Open Ocean Restoration Plan 4—Fish and Water Column Invertebrates.

The Council will hold public testimony from 2 p.m. to 5:30 p.m., CDT for FINAL ACTION Items (a). Shrimp Framework Action: Modification of the Vessel Position Data Collection Program for the Gulf of Mexico Shrimp Fishery and (b). Framework Action: Modifications to Lane Snapper Minimum Size Limits; and open testimony on other fishery issues or concerns. Public comment may begin earlier than 2 p.m. CDT, but will not conclude before that time. Persons wishing to give public testimony in-person must register at the registration kiosk in the meeting room. Persons wishing to give public testimony virtually must sign up on the Council website on the day of public testimony. Registration for virtual testimony closes one hour (1 p.m. CDT) before public testimony begins.

Thursday, April 10, 2025; 8:30 a.m.-5 p.m., CDT

The Council will receive Committee reports from Coral, Data Collection, Gulf SEDAR, and Shrimp followed by a CLOSED SESSION Report: Announce 2024 Law Enforcement Officer/Team of the Year, and Reef Fish Committee.

The Council will receive updates from the following supporting agencies: South Atlantic Fishery Management Council Liaison; Alabama Law Enforcement Efforts; NOAA Office of Law Enforcement (OLE); Gulf States Marine Fisheries Commission; U.S. Coast Guard; U.S. Fish and Wildlife Service; and Department of State.

The Council will discuss Council Planning and Primary Activities, and Other Business items, if any.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meetings. Actions will be restricted to those issues specifically listed in this notice and any issues arising after publication of this notice that require emergency action under Section 305(c) of the Magnuson-Stevens Act, provided that the public has been notified of the Council's intent to take final-action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: March 6, 2025.
Rey Israel Marquez,
Acting Deputy Director, Office of Sustainable Fisheries, National Marine Fisheries Service.

[FR Doc. 2025-03874 Filed 3-10-25; 8:45 am]

BILLING CODE 3510-22-P